DEPARTMENT OF TRANSPORTATION

Federal Aviation Administration

14 CFR Part 39

[Docket No. FAA-2019-0257; Product Identifier 2018-NM-175-AD; Amendment 39-19714; AD 2019-16-11]

RIN 2120-AA64

Airworthiness Directives; Airbus SAS Airplanes

AGENCY: Federal Aviation Administration (FAA), Department of Transportation (DOT).

ACTION: Final rule.

SUMMARY: The FAA is superseding Airworthiness Directive (AD) 2018-20-06, which applied to certain Airbus SAS Model A300 F4-600R series airplanes. AD 2018-20-06 required repetitive high frequency eddy current (HFEC) inspections of the aft lower deck cargo door (LDCD) frame forks; a one-time check of the LDCD clearances; a one-time detailed visual inspection of hooks, eccentric bushes, and x-stops; and corrective actions if necessary. This AD retains the actions of AD 2018-20-06 and requires new compliance times, depending on frame fork configuration. This AD was prompted by a report of two adjacent frame forks that were found cracked on the aft LDCD of two airplanes during scheduled maintenance, and a determination that certain compliance times need to be revised. The FAA is issuing this AD to address the unsafe condition on these products.

DATES: This AD is effective October 2, 2019.

The Director of the Federal Register approved the incorporation by reference of certain publications listed in this AD as of January 26, 2017 (81 FR 93801, December 22, 2016), and November 5, 2018 (83 FR 49265, October 1, 2018).

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2019-0257.

Examining the AD Docket

You may examine the AD docket on the internet at http://www.regulations.gov by searching for and locating Docket No. FAA-2019-0257; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

The FAA issued a notice of proposed rulemaking (NPRM) to amend 14 CFR part 39 to supersede AD 2018-20-06, Amendment 39-19440 (83 FR 49265, October 1, 2018) (“AD 2018-20-06”). AD 2018-20-06 applied to certain Airbus SAS Model A300 F4-600R series airplanes. The NPRM published in the Federal Register on May 7, 2019 (84 FR 19881). The NPRM was prompted by a report of two adjacent frame forks that were found cracked on the aft LDCD of two airplanes during scheduled maintenance, and a determination that certain compliance times need to be revised. The NPRM proposed to continue to require the actions of AD 2018-20-06 and also to require new compliance times, depending on frame fork configuration. The FAA is issuing this AD to address cracked or ruptured aft LDCD frames, which could allow loads to be transferred to the remaining structural elements. This condition could lead to the rupture of one or more vertical aft LDCD frames, which could result in reduced structural integrity of the aft LDCD.

The European Aviation Safety Agency (EASA), which is the Technical Agent for the Member States of the European Union, has issued EASA AD 2018-0266, dated December 11, 2018 (referred to after this as the Mandatory Continuing Airworthiness Information, or “the MCAI”), to correct an unsafe condition for certain Airbus SAS Model A300 F4-600R series airplanes. The MCAI states:

During scheduled maintenance at frames (FR) 61 and FR61A on the aft lower deck cargo door (LDCD) of two [Airbus SAS] A300-600F4 aeroplanes, two adjacent frame forks were found cracked. Subsequent analysis determined that, in case of cracked or ruptured aft cargo door frame(s), loads will be transferred to the remaining structural elements. However, these secondary load paths will be able to sustain the loads for a limited number of flight cycles (FC) only.

This condition, if not detected and corrected, could lead to the rupture of one or more vertical aft cargo door frame(s), resulting in reduced structural integrity of the aft cargo door.

To address this unsafe condition, Airbus issued Alert Operators Transmission (AOT) A52W011-15 to provide inspection instructions, and, consequently, EASA issued AD 2015-0152 to require repetitive inspections of the aft LDCD frame forks and, depending on findings, the accomplishment of applicable corrective action(s). Subsequently, Airbus published the modification SB [service bulletin] to provide frame fork reinforcement instructions, and the inspection SB to provide instructions to inspect the cargo door for cracks, as well as for frame fork replacement, including provisions for extended inspection intervals. EASA revised the AD accordingly.

Since EASA AD 2015-0152R1 [which corresponds to FAA AD 2018-20-06] was issued, further investigations results allowed Airbus to define new thresholds and inspection intervals according to the frame fork configuration. Consequently, the inspection SB was revised to include these new thresholds and intervals.

For the reasons described above, this [EASA] AD retains the requirements of EASA AD 2015-0152R1, which is superseded, and introduces new thresholds and intervals, depending on frame fork configuration.

You may examine the MCAI in the AD docket on the internet at http://www.regulations.gov by searching for and locating Docket No. FAA-2019-0257.

Comments

The FAA gave the public the opportunity to participate in developing this final rule. The following presents the comments received on the NPRM and the FAA's response to each comment.

Support for the NPRM

FedEx stated agreement that this AD is required to maintain the continued airworthiness and safety of its fleet.

Request To Clarify Reason for Referencing Alert Operators Transmission

Airbus requested clarification as to why the proposed AD referenced Airbus Alert Operators Transmission A52W011-15, even though the MCAI no longer references Airbus Alert Operators Transmission A52W011-15, Revision 00, dated July 23, 2015 (“Airbus All Operators Transmission A52W011-15”), as it had in previous versions of the EASA ADs. Airbus pointed out that the MCAI no longer references Airbus Alert Operators Transmission A52W011-15, and now only references Airbus Service Bulletin A300-52-6086, Revision 01, dated May 2, 2018 (“Airbus Service Bulletin A300-52-6086”). Further, Airbus noted that the proposed AD retained the reference to Airbus Alert Operators Transmission A52W011-15.

The FAA acknowledges that the MCAI does not reference Airbus Alert Operators Transmission A52W011-15, and that the proposed AD retained this reference. We determined that, for the purposes of this AD, the inclusion of Airbus Alert Operators Transmission A52W011-15 is necessary to meet the requirements of this AD. The FAA carries over previous requirements for several reasons, including: To provide credit to operators who have already complied with the service information, to reduce the need for alternative method of compliance (AMOC) requests, and to prevent situations where operators could potentially be put out of compliance. For these reasons, the FAA has determined that this AD should include reference to Airbus Alert Operators Transmission A52W011-15. No changes have been made to this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

This AD requires Airbus Service Bulletin A300-52-6085, Revision 01, dated May 2, 2018; and Airbus Service Bulletin A300-52-6086, Revision 01, dated May 29, 2018; which the Director of the Federal Register approved for incorporation by reference as of November 5, 2018 (83 FR 49265, October 1, 2018).

This AD also requires Airbus Alert Operators Transmission A52W011-15, Revision 00, including Appendices 1, 2, 3, and 4, dated July 23, 2015, which the Director of the Federal Register approved for incorporation by reference as of January 26, 2017 (81 FR 93801, December 22, 2016).

This service information is reasonably available because the interested parties have access to it through their normal course of business or by the means identified in the ADDRESSES section.

Costs of Compliance

The FAA estimates that this AD affects 58 airplanes of U.S. registry. The FAA estimates the following costs to comply with this AD:

Estimated Costs for Required Actions
Action | Labor cost | Parts cost | Cost per product | Cost on U.S. operators
Retained actions from AD 2018-20-06 | 17 work-hours × $85 per hour = $1,445 | $0 | $1,445 | $83,810

The new requirements of this AD add no additional economic burden.

The FAA estimates the following costs to do any necessary on-condition actions that would be required based on the results of any required actions. The FAA has no way of determining the number of aircraft that might need these on-condition actions:

Estimated Costs of On-Condition Actions
Labor cost | Parts cost | Cost per product
Up to 65 work-hours × $85 per hour = Up to $5,525 | Up to $10,000 | Up to $15,525.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-20-06, Amendment 39-19440 (83 FR 49265, October 1, 2018), and adding the following new AD:

2019-16-11 Airbus SAS: Amendment 39-19714; Docket No. FAA-2019-0257; Product Identifier 2018-NM-175-AD.

(a) Effective Date

This AD is effective October 2, 2019.

(b) Affected ADs

This AD replaces 2018-20-06, Amendment 39-19440 (83 FR 49265, October 1, 2018) (“AD 2018-20-06”).

(c) Applicability

This AD applies to Airbus SAS Model A300 F4-605R and F4-622R airplanes, certificated in any category, on which Airbus modification 12046 has been embodied in production. Modification 12046 has been embodied in production on manufacturer serial numbers (MSNs) 0805 and above, except MSNs 0836, 0837, and 0838.

(d) Subject

Air Transport Association (ATA) of America Code 52, Doors.

(e) Reason

This AD was prompted by a report of two adjacent frame forks that were found cracked on the aft lower deck cargo door (LDCD) of two airplanes during scheduled maintenance, and a determination that certain compliance times need to be revised. The FAA is issuing this AD to address cracked or ruptured aft LDCD frames, which could allow loads to be transferred to the remaining structural elements. This condition could lead to the rupture of one or more vertical aft LDCD frames, which could result in reduced structural integrity of the aft LDCD.

(f) Compliance

Comply with this AD within the compliance times specified, unless already done.

(g) New Affected Part Definition

For the purposes of this AD, an affected part is a frame fork having a part number identified in figure 1 to paragraph (g) of this AD.

(h) Retained Inspection Requirements and On-Condition Actions, With Revised Compliance Language

This paragraph restates the requirements of paragraph (g) of AD 2018-20-06, with revised compliance language. At the applicable time specified in paragraph (i) of this AD, or before exceeding the threshold defined in figure 2 to paragraph (h) of this AD, whichever occurs later: Do the actions specified in paragraphs (h)(1) through (3) of this AD. Repeat the high frequency eddy current (HFEC) inspection specified in paragraph (h)(3) of this AD at all LDCD frame fork stations having affected parts thereafter at intervals not to exceed the applicable times specified in figure 2 to paragraph (h) of this AD.

(1) A one-time check of the aft LDCD clearances “U” and “V” between the latching hooks and the eccentric bush at frame (FR) 60 through FR64A, in accordance with the instructions of Airbus Alert Operators Transmission A52W011-15, Revision 00, dated July 23, 2015; or the Accomplishment Instructions of Airbus Service Bulletin A300-52-6086, Revision 01, dated May 29, 2018. If any value outside tolerance is found, adjust the latching hook before further flight, in accordance with the instructions of Airbus Alert Operators Transmission A52W011-15, Revision 00, dated July 23, 2015; or the Accomplishment Instructions of Airbus Service Bulletin A300-52-6086, Revision 01, dated May 29, 2018.

(2) A one-time detailed inspection to detect signs of wear of the hooks, eccentric bushes, and x-stops, in accordance with the instructions of Airbus Alert Operators Transmission A52W011-15, Revision 00, dated July 23, 2015. If any wear is found, do all applicable corrective actions before further flight, in accordance with the instructions of Airbus Alert Operators Transmission A52W011-15, Revision 00, dated July 23, 2015.

(3) An HFEC inspection to detect cracking at all frame fork stations of the aft LDCD, in accordance with the instructions of Airbus Alert Operators Transmission A52W011-15, Revision 00, dated July 23, 2015; or the Accomplishment Instructions of Airbus Service Bulletin A300-52-6086, Revision 01, dated May 29, 2018. If any crack is found, before further flight, replace the cracked frame fork, in accordance with the instructions of Airbus Alert Operators Transmission A52W011-15, Revision 00, dated July 23, 2015; repair the cracked frame fork, in accordance with the Accomplishment Instructions of Airbus Service Bulletin A300-52-6086, Revision 01, dated May 29, 2018; or modify (reinforce) the cracked frame fork, including doing all applicable related investigative and corrective actions, in accordance with the Accomplishment Instructions of Airbus Service Bulletin A300-52-6085, Revision 01, dated May 2, 2018; except as required by paragraph (j) of this AD.

(i) Retained Compliance Times, With No Changes

At the later of the times specified in paragraphs (i)(1) and (2) of this AD, do the actions required by paragraph (h) of this AD.

(1) Before the accumulation of 4,500 total flight cycles.

(2) At the applicable time specified by paragraph (i)(2)(i) or (ii) of this AD.

(i) For airplanes that have accumulated 8,000 or more total flight cycles as of January 26, 2017 (the effective date of AD 2016-25-03, Amendment 39-18729 (81 FR 93801, December 22, 2016) (“AD 2016-25-03”)): Within 100 flight cycles after January 26, 2017.

(ii) For airplanes that have accumulated fewer than 8,000 total flight cycles as of January 26, 2017 (the effective date of AD 2016-25-03): Within 400 flight cycles after January 26, 2017.

(j) Service Information Exception

Where Airbus Service Bulletin A300-52-6085, Revision 01, dated May 2, 2018, specifies to contact Airbus for appropriate action: Before further flight, accomplish corrective actions in accordance with the procedures specified in paragraph (n)(2) of this AD.

(k) No Terminating Action

Accomplishment of corrective actions on an airplane as required by paragraph (h)(1) or (2) of this AD; or repair, modification, or replacement of a frame fork as required by paragraph (h)(3) of this AD, on the aft LDCD of an airplane; does not constitute terminating action for the repetitive HFEC inspections required by paragraph (h)(3) of this AD for that airplane.

(l) No Reporting

Although the Accomplishment Instructions of Airbus Alert Operators Transmission A52W011-15, Revision 00, dated July 23, 2015; and Airbus Service Bulletin A300-52-6086, Revision 01, dated May 29, 2018; specify to submit certain information to the manufacturer, this AD does not include that requirement.

(m) Credit for Previous Actions

(1) This paragraph provides credit for actions required by paragraphs (h)(1) and (3) of this AD, if those actions were performed before the effective date of this AD using Airbus Service Bulletin A300-52-6086, Revision 00, dated December 25, 2016.

(2) This paragraph provides credit for actions required by paragraph (h)(3) of this AD, if those actions were performed before the effective date of this AD using Airbus Service Bulletin A300-52-6085, Revision 00, dated December 22, 2016.

(n) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to 9-ANM-116-AMOC-REQUESTS@faa.gov.

(i) Before using any approved AMOC, notify your appropriate principal inspector, or lacking a principal inspector, the manager of the local flight standards district office/certificate holding district office.

(ii) AMOCs approved previously for AD 2018-20-06 are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(o) Related Information

(1) Refer to Mandatory Continuing Airworthiness Information (MCAI) EASA AD 2018-0266, dated December 11, 2018, for related information. This MCAI may be found in the AD docket on the internet at http://www.regulations.gov by searching for and locating Docket No. FAA-2019-0257.

(2) For more information about this AD, contact Dan Rodina, Aerospace Engineer, International Section, Transport Standards Branch, FAA, 2200 South 216th St., Des Moines, WA 98198; telephone and fax 206-231-3225.

(3) Service information identified in this AD that is not incorporated by reference is available at the addresses specified in paragraphs (p)(5) and (6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 5, 2018 (83 FR 49265, October 1, 2018).

(i) Airbus Service Bulletin A300-52-6085, Revision 01, dated May 2, 2018.

(ii) Airbus Service Bulletin A300-52-6086, Revision 01, dated May 29, 2018.

(4) The following service information was approved for IBR on January 26, 2017 (81 FR 93801, December 22, 2016).

(i) Airbus Alert Operators Transmission A52W011-15, Revision 00, dated July 23, 2015, including the following appendices:

(A) Appendix 1—Flowchart, undated.

(B) Appendix 2—Reporting Sheet, undated. (None of the pages of Appendix 2 are numbered.)

(C) Appendix 3—titled “Technical Disposition,” Ref. TD/K12/L3/02978/2015, Issue B, dated July 21, 2015. (Appendix 3 is identified with an appendix number only on page 1 of Airbus Alert Operators Transmission A52W011-15, Revision 00, dated July 23, 2015.)

(D) Appendix 4—P/N identification for frame forks and bushings, undated.

(ii) [Reserved]

(5) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, call 202-741-6030, or go to: http://www.archives.gov/federal-register/cfr/ibr-locations.html.

Issued in Des Moines, Washington, on August 15, 2019.
Suzanne Masterson,
Acting Director, System Oversight Division, Aircraft Certification Service.

[FR Doc. 2019-18516 Filed 8-27-19; 8:45 am]

BILLING CODE 4910-13-P